DEPARTMENT OF ENERGY

Federal Energy Regulatory Commission

[Docket No. AD15-10-000]

Notice of Intent To Update the Guidelines for Reporting on Cultural Resources Investigations for Pipeline Projects and Request for Comments

The staff of the Office of Energy Projects (OEP) is in the process of reviewing its Guidelines for Reporting on Cultural Resources Investigations for Pipeline Projects (Guidelines), dated December 2002, to determine if updates or improvements are appropriate. The staff is asking for public input and suggestions for modifications to the Guidelines from federal and state agencies, Native American tribes, environmental consultants, inspectors, natural gas industry, construction contractors, and other interested parties with special expertise with respect to historic and cultural resources commonly associated with pipeline projects. Please note that this comment period will close on July 20, 2015.

The Guidelines are referred to at 18 Code of Federal Regulations (CFR) 380.12(f). Full text of the current version of the Guidelines can be viewed on the Federal Energy Regulatory Commission (FERC or Commission) Web site at http://www.ferc.gov/industries/gas/enviro/guidelines.asp.

Based on the input received in response to this notice, OEP staff anticipates issuing draft changes to the Guidelines by fall 2015, and will make them available for public comment. We will then consider all timely comments on the drafts before issuing the final version.

Interested parties can help us determine the appropriate updates and improvements to make by providing us comments or suggestions that focus on the specific sections requiring clarification, updates to reflect current laws and regulations, or improved measures to avoid or minimize impacts on historic or cultural resources. The more specific your comments, the more useful they will be. A detailed explanation of your submissions and/or any references of scientific studies associated with your comments would greatly help us with this process.

For your convenience, there are three methods which you can use to submit your comments to the Commission. In all instances please reference the docket number (AD15-10-000) with your submission. The Commission encourages electronic filing of comments and has expert staff available to assist you at (202) 502-8258 or efiling@ferc.gov.

(1) You can file your comments electronically using the eComment feature on the Commission's Web site (www.ferc.gov) under the link to Documents and Filings. This is an easy method for interested persons to submit brief, text-only comments;

(2) You can file your comments electronically using the eFiling feature on the Commission's Web site (www.ferc.gov) under the link to Documents and Filings. With eFiling, you can provide comments in a variety of formats by attaching them as a file with your submission. New eFiling users must first create an account by clicking on “eRegister.” You must select the type of filing you are making, select “Comment on a Filing”; or

(3) You can file a paper copy of your comments by mailing them to the following address: Kimberly D. Bose, Secretary, Federal Energy Regulatory Commission, 888 First Street NE., Room 1A, Washington, DC 20426.

All of the information related to the proposed updates to the Guidelines and submitted comments can be found on the FERC Web site (www.ferc.gov) using the eLibrary link. Click on the eLibrary link, click on “General Search” and enter the docket number, excluding the last three digits in the Docket Number field (i.e., AD15-10). Be sure you have selected an appropriate date range. For assistance, please contact FERC Online Support at FercOnlineSupport@ferc.gov or toll free at (866) 208-3676, or for TTY, contact (202) 502-8258. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/docs-filing/esubscription.asp.

Dated: April 21, 2015.
Kimberly D. Bose,
Secretary.

[FR Doc. 2015-09744 Filed 4-27-15; 8:45 am]

BILLING CODE 6717-01-P